DEPARTMENT OF COMMERCE

International Trade Administration

[A-549-830]

Welded Stainless Pressure Pipe From Thailand: Final Determination of Sales at Less Than Fair Value

AGENCY: Enforcement and Compliance, International Trade Administration, Department of Commerce

DATES: Effective Date: May 30, 2014.

SUMMARY: The Department of Commerce (“Department”) determines that welded stainless pressure pipe (“WSPP”) from Thailand is being, or is likely to be, sold in the United States at less than fair value (“LTFV”), as provided in section 735 of the Tariff Act of 1930, as amended (the “Act”). The final dumping margins for this investigation are listed in the “Final Determination” section below.

FOR FURTHER INFORMATION CONTACT: Brandon Farlander or Trisha Tran, AD/CVD Operations, Office IV, Enforcement and Compliance, International Trade Administration, U.S. Department of Commerce, 14th Street and Constitution Avenue NW., Washington, DC 20230; telephone: (202) 482-0182 or (202) 482-4852, respectively.

SUPPLEMENTARY INFORMATION:

Background

The Department published its Preliminary Determination on January 7, 2014,¹ and its Amended Preliminary Determination on February 26, 2014.² On March 13, 2014, we received a case brief ³ from Bristol Metals, LLC, Felker Brothers Corp., and Outokumpu Stainless Pipe, Inc. (“Petitioners”). On March 18, 2014, we received a rebuttal brief ⁴ from Thai-German Products Public Company Limited (“TGP”). Based on an analysis of the comments received, the Department made changes from the Preliminary Determination and Amended Preliminary Determination.

¹ See Welded Stainless Pressure Pipe From Thailand: Preliminary Determination of Sales at Less Than Fair Value and Postponement of Final Determination, 79 FR 812 (January 7, 2014) (“Preliminary Determination”).

² See Welded Stainless Pressure Pipe From Thailand: Amended Preliminary Determination of Sales at Less Than Fair Value, 79 FR 10772 (February 26, 2014) (“Amended Preliminary Determination”).

³ See submission from Petitioners, “Welded Stainless Pressure Pipe From Thailand: Petitioners' Case Brief,” dated March 13, 2014 (“Petitioners' Case Brief”).

⁴ See submission from TGP, “Welded Stainless Steel Pressure Pipe From Thailand; Rebuttal Brief,” dated March 18, 2014 (“TGP's Rebuttal Brief”).

Period of Investigation

The period of investigation (“POI”) is April 1, 2012, through March 31, 2013.

Scope of the Investigation

The merchandise covered by this investigation is circular welded austenitic stainless pressure pipe not greater than 14 inches in outside diameter. For purposes of this investigation, references to size are in nominal inches and include all products within tolerances allowed by pipe specifications. This merchandise includes, but is not limited to, the American Society for Testing and Materials (ASTM) A-312 or ASTM A-778 specifications, or comparable domestic or foreign specifications. ASTM A-358 products are only included when they are produced to meet ASTM A-312 or ASTM A-778 specifications, or comparable domestic or foreign specifications.

Excluded from the scope are: (1) Welded stainless mechanical tubing, meeting ASTM A-554 or comparable domestic or foreign specifications; (2) boiler, heat exchanger, superheater, refining furnace, feedwater heater, and condenser tubing, meeting ASTM A-249, ASTM A-688 or comparable domestic or foreign specifications; and (3) specialized tubing, meeting ASTM A269, ASTM A-270 or comparable domestic or foreign specifications.

The subject imports are normally classified in subheadings 7306.40.5005, 7306.40.5040, 7306.40.5062, 7306.40.5064, and 7306.40.5085 of the Harmonized Tariff Schedule of the United States (HTSUS). They may also enter under HTSUS subheadings 7306.40.1010, 7306.40.1015, 7306.40.5042, 7306.40.5044, 7306.40.5080, and 7306.40.5090. The HTSUS subheadings are provided for convenience and customs purposes only; the written description of the scope of the investigation is dispositive.

Verification

As provided in section 782(i) of the Act, from January 20, 2014 through January 24, 2014, the Department attempted to verify the sales information submitted by TGP for use in the final determination. The Department used standard verification procedures, including examination of relevant accounting and production records and original source documents provided by the respondent. At verification, the Department discovered that TGP did not report the vast majority of its home market sales.⁵ In light of that, we cancelled TGP's cost verification.⁶

⁵ See Memorandum From Trisha Tran and Brandon Farlander, Senior International Trade Compliance Analysts, AD/CVD Operations, Office IV, to the File, “Antidumping Duty Investigation of Welded Stainless Pressure Pipe From Thailand: Verification of the Questionnaire Responses of Thai-German Products Public Company Limited,” (March 5, 2014) (“TGP Sales Verification Report”).

⁶ See TGP's Sales Verification Report.

Analysis of Comments Received

All issues raised in the case and rebuttal briefs by parties in this investigation are addressed in the Issues and Decision Memorandum.⁷ A list of the issues raised by the parties and to which the Department responded in the Issues and Decision Memorandum is attached to this notice as an Appendix. The Issues and Decision Memorandum is a public document and is on file electronically via Enforcement and Compliance's Antidumping and Countervailing Duty Centralized Electronic Service System (“IA ACCESS”). IA ACCESS is available to registered users at http://iaaccess.trade.gov, and is available to all parties in the Central Records Unit, which is in room 7046 of the main Department of Commerce building. In addition, a complete version of the Issues and Decision Memorandum can be accessed directly on the internet at http://enforcement.trade.gov/frn/index.html. The paper copy and electronic version of the Issues and Decision Memorandum are identical in content.

⁷ See Memorandum from Christian Marsh, Deputy Assistant Secretary for Antidumping and Countervailing Duty Operations, to Paul Piquado, Assistant Secretary for Import Administration, “Issues and Decision Memorandum for the Final Determination in the Antidumping Duty Investigation of Welded Stainless Pressure Pipe (“WSPP”) From Thailand” (May 22, 2014) (“Issues and Decision Memorandum”).

Changes Since the Preliminary Determination and Amended Preliminary Determination

Based on our analysis of the comments received and our findings at verification:

• We applied total adverse facts available (“AFA”) to TGP and assigned to it the highest margin alleged in the petition, i.e., 24.01 percent, as TGP's AFA rate.⁸

⁸ See Issues and Decision Memorandum at Comments 1 and 2.

• We revised the “All Others” rate.⁹

⁹ See Issues and Decision Memorandum at Comment 4.

“All Others” Rate

Section 735(c)(5)(A) of the Act provides that the estimated all-others rate shall be an amount equal to the weighted-average of the estimated weighted-average dumping margins established for exporters and producers individually investigated excluding any zero or de minimis and margins based entirely under section 776 of the Act. Pursuant to sectin 735(c)(5)(B) of the Act, if the estimated weighted-average dumping margins established for all exporters and producers individually examined are zero, de minimis or determined based entirely under section 776 of the Act, the Department may use any reasonable method to establish the estimated weighted-average dumping margin for all other producers or exporters. In the Amended Preliminary Determination, the Department calculated the “All Others” rate based on TGP's rate from the Preliminary Determination. In light of the Department's assignment of total AFA to TGP (and, previously to Ametai Co., Ltd. and Thareus Co., Ltd (Ametai/Thareus), the other mandatory respondent in this investigation), TGP's rate is no longer appropriate for the all others rate. In cases where there are no weighted-average dumping margins besides zero or de minimis, or where the rates established for individually investigated entities have been determined entirely under section 776 of the Act, the Department averages the margins calculated in the petition and applies the result to all other entities not individually examined.¹⁰ The average of the petition margins (i.e., 23.77 percent and 24.01 percent) is 23.89 percent.¹¹ Therefore, the “All Others” rate applied to all other entities not individually examined is 23.89 percent.

¹⁰ See Steel Threaded Rod From Thailand: Preliminary Determination of Sales at Less Than Fair Value and Affirmative Preliminary Determination of Critical Circumstances, 78 FR 79670, 79671 (December 31, 2013) (“Steel Threaded Rod From Thailand”); see also Notice of Preliminary Determination of Sales at Less Than Fair Value: Sodium Nitrite From the Federal Republic of Germany, 73 FR 21909 (April 23, 2008); unchanged in Notice of Final Determination of Sales at Less Than Fair Value: Sodium Nitrite From the Federal Republic of Germany, 73 FR 38986 (July 8, 2008).

¹¹ See Welded Stainless Pressure Pipe From Thailand Investigation Initiation Checklist, dated June 5, 2013, at 8, citing Welded Stainless Pressure Pipe From Thailand: Correction to Supplemental Response, dated May 30, 2013, at Exhibit III-8.

Final Determination

The Department determines that the following final dumping margins exist for the POI:

Manufacturer/exporter | Dumping margin (percent)
Ametai Co., Ltd./Thareus Co., Ltd | * 24.01
Thai-German Products Public Company Limited | 24.01
All Others | 23.89
* Unchanged from the Amended Preliminary Determination.

Disclosure

The Department intends to disclose calculations performed for this final determination to the parties within five days of the date of publication of this notice in accordance with 19 CFR 351.224(b).

Continuation of Suspension of Liquidation

In accordance with section 735(c)(1)(B) of the Act, the Department will instruct U.S. Customs and Border Protection (“CBP”) to continue to suspend liquidation of all appropriate entries of WSPP from Thailand as described in the “Scope of the Investigation” section, which were entered, or withdrawn from warehouse, for consumption on or after January 7, 2014, the date of publication of the Preliminary Determination in the Federal Register. CBP shall require a cash deposit equal to the estimated amount by which the normal value exceeds the U.S. price as follows: (1) The rates for Ametai/Thareus and TGP will be the rates we have determined in this final determination; (2) if the exporter is not a firm identified in this investigation but the producer is, the rate will be the rate established for the producer of the subject merchandise; (3) the rate for all other producers or exporters will be 23.89 percent, as discussed in the “All Others Rate” section, above. These instructions suspending liquidation will remain in effect until further notice.

U.S. International Trade Commission (“ITC”) Notification

In accordance with section 735(d) of the Act, we will notify the ITC of our final affirmative determination of sales at LTFV. Because the final determination in this proceeding is affirmative, in accordance with section 735(b)(2) of the Act, the ITC will make its final determination as to whether the domestic industry in the United States is materially injured, or threatened with material injury, by reason of imports or sales for importation of WSPP from Thailand no later than 45 days after our final determination. If the ITC determines that material injury or threat of material injury does not exist, the proceeding will be terminated and all securities posted will be refunded or canceled. If the ITC determines that such injury does exist, the Department will issue an antidumping duty order directing CBP to assess, upon further instruction by the Department, antidumping duties on all imports of the subject merchandise entered, or withdrawn from warehouse, for consumption on or after the effective date of the suspension of liquidation.

Notification Regarding Administrative Protective Orders (“APO”)

This notice also serves as a reminder to the parties subject to APO of their responsibility concerning the disposition of propriety information disclosed under APO in accordance with 19 CFR 351.305. Timely written notification of return or destruction of APO materials or conversion to judicial protective order is hereby requested. Failure to comply with the regulations and terms of an APO is a sanctionable violation.

This determination is issued and published in accordance with sections 735(d) and 777(i)(1) of the Act.

Dated: May 22, 2014.
Paul Piquado,
Assistant Secretary for Enforcement and Compliance.

Appendix

Issues for the Final Determination

I. Summary

II. Background

III. POI

IV. Scope

V. Adverse Facts Available

VI. Discussion of the Issues

Comment 1: Whether To Apply Total AFA With Respect to TGP

Comment 2: AFA Rate To Apply to TGP

Comment 3: Whether To Apply a Higher AFA Rate to Ametai/Thareus

Comment 4: Whether To Revise the “All Others” Rate and, If Yes, What Rate To Select Recommendation

[FR Doc. 2014-12588 Filed 5-29-14; 8:45 am]

BILLING CODE 3510-DS-P